DEPARTMENT OF DEFENSE

Department of the Air Force

[Docket ID USAF-2012-0032]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on January 14, 2013 unless comments are received which result in a contrary determination. Comments will be accepted on or before January 14, 2013.

ADDRESSES: You may submit comments, identified by docket number and title, by any of the following methods:

• Federal Rulemaking Portal: http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FURTHER INFORMATION CONTACT.

The proposed systems reports, as required by 5 U.S.C. 552a(r) of the Privacy Act, were submitted on December 3, 2012 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 7, 2012.
Aaron Siegel,
Alternate OSD Federal Register Liaison Officer, Department of Defense.

F036 AF PC V

System Name:

Awards and Decorations (June 11, 1997, 62 FR 31793).

Changes:

* * * * *

System Identifier:

Delete entry and replace with “F036 AFPC V”.

* * * * *

System Location:

Delete entry and replace with “Headquarters, United States Air Force, Washington DC 20330-1670. Directorate of Personnel Program Actions, Headquarters Air Force Personnel Center, 550 C Street West, Randolph Air Force Base, TX 78150-6001.

Headquarters of major commands and at all levels down to and including Air Force installations. Official mailing addresses are published as an appendix to the Air Force's compilation of record systems notices.”

Categories of Individuals Covered by the System:

Delete entry and replace with “Air Force active duty, Air Force Reserve, Air National Guard and United States civilian personnel who are recommended for an award.”

Categories of Records in the System:

Delete entry and replace with “Full name, Social Security Number (SSN), rank, office address, work and home phone numbers, previous awards and/or decorations.”

Authority for Maintenance of the System:

Delete entry and replace with “10 U.S.C. Chapter 857, Decorations and Awards; as implemented by Air Force Instruction 36-2803, The Air Force Awards and Decorations Program; and E.O. 9397 (SSN) as amended.”

* * * * *

Retrievability:

Delete entry and replace with “Name and/or SSN.”

Safeguards:

Delete entry and replace with “Records are accessed by person(s) responsible for servicing the record system with a Common Access Card (CAC) in performance of their official duties and by authorized personnel who are properly screened and cleared for need-to-know. Records are stored in locked rooms and cabinets. Those in computer storage devices are protected by computer system software.”

Retention and disposal:

Delete entry and replace with “Special Honors, trophies and awards program sponsored by Air Force and private organizations, including nominations of individuals, units and groups, announcements of awards and related forms and correspondence at Headquarters United States Air Force (HQ USAF), Headquarters Air Force Personnel Center (HQ AFPC), and Major Command (MAJCOM) are destroyed after 50 years. Decorations to individuals (Military and Civilian) disapproved by U.S. Military are destroyed after 35 years. Approved/disapproved decorations and awards at initiating and intermediate monitoring headquarters are destroyed after decoration is awarded or 1 year after disapproval. Decorations to foreign nationals and U.S. citizens not employed by U.S. government are retired as permanent 2 years after completion of case; records are stored at Randolph AFB TX. Files are destroyed by tearing into pieces, shredding, pulping, macerating, or burning. Computer records are destroyed by erasing, deleting or overwriting.”

System manager(s) and address:

Delete entry and replace with “Executive Director, Headquarters, Air Force Personnel Center, 550 C Street West, Randolph Air Force Base, TX 78150-6001.”

Notification procedures:

Delete entry and replace with “Individuals seeking to determine whether information about themselves is contained in this system should address written inquiries to Directorate of Personnel Program Actions, Headquarters Air Force Personnel Center, 550 C Street West, Randolph Air Force Base, TX 78150-6001.

For verification purposes the individual should provide their full name, Social Security Number (SSN), any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to access records about themselves contained in this system should address written requests to the Executive Director, Headquarters, Air Force Personnel Center, 550 C Street West, Randolph Air Force Base, TX 78150-6001 or to the agency officials at location of assignment.

For verification purposes the individual should provide their full name, Social Security Number (SSN), any details which may assist in locating records and their signature.

In addition the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting Record Procedures:

Delete entry and replace with “The Air Force rules for accessing records, and for contesting contents and appealing initial agency determinations are published in Air Force Instruction 33-332, Air Force Privacy Program or may be obtained from the system manager.”

* * * * *

[FR Doc. 2012-30030 Filed 12-12-12; 8:45 am]

BILLING CODE 5001-05-P